DEPARTMENT OF COMMERCE

National Oceanic and Atmospheric Administration

[I.D. 100501A]

Marine Mammals; File No. 655-1652-00

AGENCY: National Marine Fisheries Service (NMFS), National Oceanic and Atmospheric Administration (NOAA), Commerce.

ACTION: Receipt of application.

SUMMARY: Notice is hereby given that Scott D. Kraus, Ph.D., Edgerton Research Laboratory, New England Aquarium, Central Wharf, Boston, MA 02110-3309, has applied in due form for a permit to take North Atlantic right whales (Eubalaena glacialis) for purposes of scientific research.

DATES: Written or telefaxed comments must be received on or before November 15, 2001.

ADDRESSES: The application and related documents are available for review upon written request or by appointment in the following office(s):

Permits and Documentation Division, Office of Protected Resources, NMFS, 1315 East-West Highway, Room 13705, Silver Spring, MD 20910; phone (301) 713-2289; fax (301) 713-0376;

Northeast Region, NMFS, One Blackburn Drive, Gloucester, MA 01930-2298; phone (978) 281-9200; fax (978) 281-9371; and

Southeast Region, NMFS, 9721 Executive Center Drive North, St. Petersburg, FL 33702-2432; phone (727) 570-5301; fax (727) 570-5320.

FOR FURTHER INFORMATION CONTACT: Ruth Johnson or Tammy Adams (301) 713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

The applicant proposes to take up to 350 right whales in the Northern Atlantic population annually for a 5-year period. Taking will involve photo-identification, biopsy darting, ultrasound measurements, suction-cup tagging, acoustic playbacks and radio tagging of live whales, biological and pathological sample collection from dead whales. The objectives are: to monitor the health and status of the population by annually documenting as many individuals as possible, identifying skin and body condition, documenting anthropogenic scarring, identifying calf production, tracking calving intervals and birth rates of individual females, identifying sex, age, and genetic patterns in movement, behavior, and habitat use, documenting rates and causes of mortality, examining hormone and stress levels, and examining behavior and association data for trends over time; and to minimize the effects of human activities on the survival of right whales by developing “whale-safe” fishing gear and methods, reducing the impacts of shipping activities on right whales, and by testing hypotheses on the potential links between contaminants, biotoxins, food supply, nutrition, global warming, acoustic disturbance, and habitat loss, and the decline in reproduction of right whales.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: October 10, 2001.
Ann D. Terbush,
Chief, Permits and Documentation Division, Office of Protected Resources, National Marine Fisheries Service.

[FR Doc. 01-25981 Filed 10-15-01; 8:45 am]

BILLING CODE 3510-22-S